DEPARTMENT OF TRANSPORTATION

Federal Railroad Administration

Railroad Safety Infrastructure Improvement Grants

AGENCY: Federal Railroad Administration (FRA), Department of Transportation (DOT).

ACTION: Notice of funding opportunity.

SUMMARY: This Notice of Funding Opportunity (NOFO or notice) details the application requirements and procedures for obtaining grant funding for eligible projects under the Railroad Safety Infrastructure Improvement Grant program. The opportunities described in this notice are available under Catalog of Federal Domestic Assistance (CFDA) number 20.301, “Rail Safety Grants.”

DATES: Applications for funding under this notice are due no later than 5:00 p.m. Eastern Daylight Time (EDT), on June 14, 2016. Applications for funding received after 5:00 p.m. EDT on June 14, 2016, will not be considered for funding. See Section 4 of this notice for additional information regarding the application process.

ADDRESSES: Applications for funding must be submitted via Grants.gov. For any required or supporting application materials that an applicant is unable to submit via Grants.gov (such as oversized engineering drawings), the applicant may submit an original and two copies to John Winkle, attn.: Mary Ann McNamara, Office of Program Delivery, Federal Railroad Administration, 1200 New Jersey Avenue SE., Room W38-302, Mail Stop 20, Washington, DC 20590. However, due to delays caused by enhanced screening of mail delivered via the U.S. Postal Service, applicants are advised to use other means of document conveyance, such as courier service, to ensure timely delivery. Courier service should include the room number in the address.

FOR FURTHER INFORMATION CONTACT: For further information regarding this notice, please contact John Winkle, attn.: Mary Ann McNamara, Office of Program Delivery, Federal Railroad Administration, 1200 New Jersey Avenue SE., Room W38-302, Mail Stop 20, Washington, DC 20590; Email: john.winkle@dot.gov; Phone: (202) 493-6067; Fax: (202) 493-6333.

SUPPLEMENTARY INFORMATION: Notice to applicants: FRA recommends that applicants read this notice in its entirety prior to preparing application materials. There are several administrative requirements described herein that applicants must comply with to submit an application and application requirements may differ depending on the type of proposed project. FRA has established a Web page for grant notices, at www.fra.dot.gov/Page/P0933, that contains required application materials and additional guidance for topics referenced in this notice.

Additionally, applicants should note that the required project narrative component of the application package may not exceed 25 pages in length.

Table of Contents

1. Program Description

2. Federal Award Information

3. Eligibility Information

4. Application and Submission Information

5. Application Review

6. Federal Award Administration

7. Federal Awarding Agency Contact

Section 1: Program Description

1.1 Background

FRA's mission is to ensure the safe, reliable, and efficient movement of people and goods for a strong America, now and in the future. America's population is estimated to increase by 70 million people, or more than 20 percent, by 2045. Freight shipments are forecasted to increase by 45 percent over the same period. Rail transportation will play a critical role in accommodating the passenger and freight mobility demands of our growing population.

As our population grows, so too does the use of our transportation infrastructure. However, the funding necessary to maintain and improve our transportation system has not kept pace with this usage and the burdens placed upon it, which has led to a widening infrastructure deficit as more transportation assets fall into a state of disrepair. This is particularly true on our nation's rail network, where a significant backlog of rail infrastructure, stations, and equipment repair or replacement needs have accumulated after decades of underinvestment. Maintaining infrastructure and equipment is essential for safe, reliable, and efficient railroad operations.

To help address these concerns, over the past several years, FRA has administered several rail infrastructure rehabilitation and improvement grant programs, including the Rail Line Relocation and Improvement program, the Safe Transportation of Energy Products program, and the High-Speed Intercity Passenger Rail program. In the fiscal year 2016 Consolidated Appropriations Act, Congress appropriated $25 million for the Rail Safety Infrastructure Improvements Grant program. Through the Rail Safety Infrastructure Improvements Grant program, FRA will, pursuant to the authority provided by Congress, provide funding assistance to improve the safety of rail infrastructure. Specifically, the Rail Safety Infrastructure Improvements Grant program can fund safety improvements to railroad infrastructure, including the acquisition, improvement, or rehabilitation of intermodal or rail equipment or facilities, including track, bridges, tunnels, rail yards, buildings, passenger stations, and maintenance and repair shops. Projects that make improvements to highway-rail at-grade crossings, including grade separations and grade crossing closures, are also eligible, as are improvements necessary to establish a quiet zone. Applicants should note, however, that given the statutorily-prescribed selection criteria, FRA will view more favorably projects that are primarily intended to improve safety at highway-rail grade crossings, yet incorporate infrastructure improvements necessary to construct a quiet zone, instead of standalone quiet zone infrastructure projects that have minimal impact on railroad safety.

1.2 Program Overview

This notice contains the requirements and procedures applicants must follow to compete for funding under the Railroad Safety Infrastructure Improvement Grant program. This notice makes $25,000,000 in discretionary funding available for safety improvements to railroad infrastructure, including the acquisition, improvement, or rehabilitation of intermodal or rail equipment or facilities, including track, bridges, tunnels, yards, buildings, passenger stations, and maintenance and repair shops.

Applicants are encouraged to read the remainder of this NOFO carefully for:

(1) Funding parameters;

(2) Applicant, project, and project-cost eligibility requirements;

(3) Application development and submission policies;

(4) Details regarding FRA's application evaluation and selection criteria; and

(5) Post-award grant administration responsibilities.

1.3 Legislative Authority

Funding for this notice was made available by the Consolidated Appropriations Act, 2016 (Act), Public Law 114-113, division L, title I (2015), which directed FRA to award up to $25,000,000 for railroad safety grants to carry out 49 U.S.C. 20167, in effect the day before the enactment of the Passenger Rail Reform and Investment Act of 2015 (division A, title XI of the Fixing America's Surface Transportation Act). The Act appropriated $25,000,000 for this grant program, all of which is available through this NOFO.

Section 2: Federal Award Information

The total amount of funding available under this NOFO is $25,000,000. FRA anticipates making multiple awards under this Notice. However, given the relatively limited amount of funding available for award, FRA:

(1) Encourages applicants to constrain their Federal funding request to a maximum of $5,000,000 per project and application. While this funding request limit is a recommendation and not a firm requirement, applications exceeding the recommended amount must explain why additional funding over the recommended amount is necessary to implement the proposed project. If additional funding is required for a particular project, applicants are advised to subdivide higher-cost projects into discrete components that demonstrate operational independence and public benefits discrete to that project component;

(2) Strongly encourages applicants to leverage other federal, state, local, or private funds to support the proposed project; and

(3) May not be able to award grants to all eligible applications, or even those applications that meet or exceed the stated evaluation criteria (see Section 5, Application Review and Selection). However, should additional funding become available, FRA may choose to fund applications submitted under this NOFO, but not selected in FRA's first round of funding.

Section 3: Eligibility Information

This section of the notice provides the requirements for submitting an eligible grant application. Applications that do not meet the requirements in this section may be considered ineligible for funding. Instructions for conveying eligibility information to FRA are detailed in Section 4 of this NOFO.

3.1 Applicant Eligibility

The following entities are eligible applicants for all project types permitted under this notice (see section 3.2, “Project Eligibility”), except a project to establish a quiet zone:

• States;

• Local Governments; and

• Passenger and Freight Railroad Carriers.

Only States and political subdivisions of States are eligible applicants for projects to construct the infrastructure necessary to establish a quiet zone under 49 CFR part 222. FRA considers traditional units of local government such as cities, counties, boroughs, and townships to be political subdivisions of a State. However, under 49 CFR part 222, only public authorities may establish quiet zones. FRA recommends that applicants interested in submitting an application for a quiet zone infrastructure project, including States, review part 222 to determine whether they are a public authority. If not, such applicants would have to demonstrate to FRA that the public authorities with jurisdiction over the grade crossing(s) that is (are) the subject of the application intend to establish a quiet zone that would include the crossing(s). Finally, FRA prefers but does not require that State Departments of Transportation (or similar entities) submit applications on behalf of their State.

3.2 Project Eligibility

This notice solicits applications for a broad range of rail projects. Eligible projects are those that will make safety improvements to railroad infrastructure and include the acquisition, improvement, or rehabilitation of intermodal or rail equipment, or facilities. Eligible rail equipment includes track, bridges and tunnels, and eligible facilities include yards, buildings, passenger stations, and maintenance and repair shops. Projects that construct grade separations or make improvements to highway-rail grade crossings are eligible, as are projects to construct the infrastructure necessary to establish a quiet zone, although FRA will view more favorably quiet zone infrastructure projects that are primarily intended to improve highway-rail grade crossing safety. The types of costs/activities allowed under each project type are discussed in Section 3.3, “Cost Eligibility.” All applications must clearly demonstrate project need and the expected positive impact of the proposed project on rail safety using clear supportable data.

Proposed safety infrastructure projects may include in their statement of work pre-construction planning activities, such as preliminary engineering and final design, and any costs related to environmental and related clearances, including all work necessary for FRA to approve the project under the National Environmental Policy Act (NEPA) and related statutes and regulations. FRA will consider eligible, however, only those costs related to preliminary work that directly supports construction of the project. FRA considers work such as planning studies and feasibility studies to be too far removed from actual construction and not eligible. In addition, Congress made clear in the Act that this program must fund safety improvements Therefore, projects funding only pre-construction work, including work that would be otherwise eligible as part of a construction project, are not eligible.

3.3 Cost Eligibility

3.3.1. Matching Funds. All Federal funds, including FRA's funding contribution to any proposed project under this NOFO, must not exceed a 50 percent share of the total project cost. FRA will not consider any Federal or non-Federal funds already expended (or otherwise encumbered) toward the matching requirement. Applicants must identify the source(s) of their matching and other leveraged funds, and must clearly and distinctly reflect these funds as part of the total project cost in the application budget.

Before submitting an application, applicants should carefully review the principles for cost sharing or matching in 2 CFR 200.306.

3.3.2. Project Costs. A broad range of rail safety infrastructure projects are eligible for funding under this NOFO. Eligible projects include, but are not limited to, the following:

3.3.2.1 Track and Related Projects

○ Track rehabilitation and repair;

○ Track construction, such as straightening curves or adding passing sidings;

○ Bridge rehabilitation and repair;

○ Signal installation, repair or upgrade; ¹

¹ Projects that install Positive Train Control (PTC) infrastructure are eligible. Given that Congress also funded a separate PTC grant program, however, FRA believes that Congress intended that this Safety Grants program focus on safety infrastructure improvements other than PTC. For applicants interested in funding for PTC projects, FRA recommends those applicants apply for FRA's Railroad Safety Technology Grant program, which has $25 million available specifically for PTC projects, or FTA's Commuter Rail PTC grant program.

○ Grade crossing installation, repair or rehabilitation, or closure;

○ Grade separations; and

○ On electrified rail, installation, replacement or rehabilitation of overhead catenary.

3.3.2.2 Rolling Stock/Equipment Projects

○ Rehabilitation of locomotives, passenger cars, or other rolling stock; and

○ Acquisition of locomotives, passenger cars, or other rolling stock.

3.3.2.3 Railroad/Intermodal Facilities Projects

○ Rehabilitation or repair of tunnels;

○ Construction, rehabilitation or reconfiguration of yards, including necessary track work;

○ Construction, rehabilitation or repair of passenger stations, including rail-related appurtenances such as platforms and canopies; and

○ Construction, rehabilitation or repair of other rail facilities, such as maintenance and repair shops.

The focus of a project must be safety improvements, and not other potential benefits, such as increased operational efficiencies or economic opportunities. As is discussed in Section 5 Application Review, FRA will consider other benefits, but to be eligible under this program the primary purpose of a project must be to improve safety. If an applicant has questions concerning eligibility of a project, FRA urges the applicant to contact FRA before the applicant begins preparing the application.

If a grant awarded under this program will not fully fund the project, the applicant must demonstrate to FRA's satisfaction that the applicant has, prior to submitting the application, secured all funding necessary to complete the project.

Any grant awarded under the Railroad Safety Infrastructure Improvement Grant program will be a reimbursable grant. Unless otherwise approved by FRA, grantees must first disburse funds to cover eligible costs and then seek reimbursement from FRA.

Section 4: Application and Submission Information

4.1 Submission Dates and Times

Complete applications must be submitted to Grants.gov no later than 5:00 p.m. EDT on June 14, 2016. Applications received after 5:00 p.m. EDT on June 14, 2016, will not be considered for funding. Accordingly, applicants are strongly encouraged to apply early to ensure that all materials are received before the application deadline.

4.2 Application Content

Applicants must include the following documents in the application package:

○ SF424 (Application for Federal Assistance);

○ Project Narrative (see 4.2.1);

○ Statement of Work (SOW) (see 4.2.2);

○ FRA's Additional Assurances and Certifications;

○ SF 424C—Budget Information for Construction;

○ SF 424D—Assurances for Construction; and

○ SF LLL: Disclosure of Lobbying Activities.

Applicants must complete and submit all components of the application package to be considered for funding. FRA has established a grant opportunity Web page at www.fra.dot.gov/Page/P0268, which contains application forms and additional application guidance. Additional content requirements for the project narrative and SOW can be found in Sections 4.2.1 and 4.2.2 below.

FRA welcomes the submission of other relevant supporting documentation the applicant has developed, such as planning, NEPA documentation, engineering and design documentation, and letters of support. Applications accompanied by completed feasibility studies, environmental determinations, and cost estimates may be more favorably considered during the application review process because they demonstrate that an applicant has a greater understanding of the scope and cost of the proposed project. These documents will not count against the 25-page limit applied to the project narrative.

4.2.1 Project Narrative. The following seven numeric points describe the minimum content required in the project narrative component of a grant application, and the project narrative must adhere to the following outline. The project narrative may not exceed 25 pages in length (including any supporting tables, maps, or drawings). FRA will not accept applications with project narratives exceeding the 25 page limit. However, the supplementary documents listed in Section 4.2 will not count against this limit.

(1) Applicants must include a title page that lists the following elements in either a table or formatted list: Project title, location (street or address, zip code, city, county, State, district), the applicant organization name, and the name of any co-applicants. Applicants must provide a brief 4-6 sentence summary of the proposed project, capturing the safety challenges the proposed project aims to address, the intended outcomes, and anticipated benefits that will result from the proposed project.

(2) Applicants must describe the applicant's eligibility per Section 3 of this Notice. Applicants must provide a single point of contact for the application, including: Name, title, phone number, mailing address, and email address. The point of contact must be an employee of the eligible applicant.

For quiet zone infrastructure projects submitted by an applicant, the applicant must establish that it is a political subdivision of a State. As described above, FRA considers traditional units of local government such as cities, counties, boroughs and townships to be political subdivisions. For other entities, information that could substantiate eligibility includes enabling legislation stating clearly that the applicant is a political subdivision of a State, an Attorney General's Opinion from the State explaining that the applicant is a political subdivision of the State, or an appellate court judicial opinion finding that the applicant is a political subdivision of a State. If a potential applicant's eligibility as a political subdivision of a State is in question, the applicant should contact FRA.

(3) Applicants must indicate the amount of Federal funding requested from FRA under this NOFO and for this project, the proposed non-Federal match, any other funding amounts, and total project cost. Applicants must identify the Federal and matching funding percentages of the total project cost. Applicants must identify source(s) of matching funds, the source(s) of any other Federal funds committed to the project, and any pending Federal requests. Please note, other federal funds may be used to support the project, but may not be considered eligible matching funds for funds awarded under this Notice, and will be counted as part of the 50 percent limit on Federal funds. If applicable, please note whether the requested Federal funding must be obligated or expended by a certain date (due to other entities with other Federal or non-Federal funding sources, related projects, or other factors). Finally, applicants must specify whether Federal funding has ever previously been sought for the project and not secured, and name the Federal program and fiscal year from which the funding was requested.

(4) Applicants must include a detailed project description that expands upon the brief summary required in item number one of the project narrative section. This detailed description must provide, at a minimum, additional background on: The safety risks and challenges the project aims to address; the specific project activities proposed; expected outputs and outcomes of the project; and any other information the applicant deems necessary to justify the proposed project. In describing the project, the application should also clearly explain how the proposed project meets the respective project and cost/activity eligibility criteria for the type of funding requested as outlined in Section 3 of this notice.

(5) Applicants must include a thorough discussion of how the project meets all of the evaluation criteria for the respective project type as outlined below in Section 5 of this notice. Applicants should note that FRA reviews applications based upon the evaluation criteria listed. If an application does not sufficiently address the evaluation criteria, it is unlikely to be considered a competitive application. In responding to the criteria, applicants are reminded to clearly identify, quantify, and compare expected safety benefits and costs of proposed projects. FRA understands that the level of detail and sophistication of analysis that should be expected for relatively small projects (i.e., those encouraged to be limited to under $5,000,000 in this notice) is less than for larger investments.

(6) Applicants must describe proposed project implementation and project management arrangements. Applicants must include descriptions of the expected arrangements for project contracting, contract oversight, change-order management, risk management, and conformance to Federal requirements for project progress reporting.

(7) Applicants must describe the anticipated environmental or historic preservation impacts associated with the proposed project, any environmental or historic preservation analyses that have been prepared, and progress toward completing any environmental documentation or clearance required for the proposed project under NEPA, the National Historic Preservation Act, section 4(f) of the U.S. DOT Act, the Clean Water Act, or other applicable Federal or State laws. Applicants and grantees under FRA's financial assistance programs are encouraged to contact FRA and obtain preliminary direction regarding the appropriate NEPA class of action and required environmental documentation. Generally, projects will be ineligible to receive funding if construction activities began prior to the applicant/grantee receiving written approval from FRA that all environmental and historical analyses have been completed. Additional information regarding FRA's environmental processes and requirements are located at www.fra.dot.gov/Page/P0183.

4.2.2 Statement of Work. Applicants are required to submit a SOW that addresses the scope, schedule, and budget for the proposed project. The SOW should contain sufficient detail so that both FRA and the applicant can understand the expected outcomes of the proposed work to be performed and monitor progress toward completing project tasks and deliverables during a prospective grant's period of performance. The FRA has developed a standard SOW template that applicants must use to be considered for award. The SOW templates are located at www.fra.dot.gov/Page/P0325.

4.3 Submission Instructions

Applicants must submit all application materials through Grants.gov. For any required or supporting application materials an applicant is unable to submit via Grants.gov (such as oversized engineering drawings), an applicant may submit an original and two copies to John Winkle, attn.: Mary Ann McNamara, Office of Program Delivery, Federal Railroad Administration, 1200 New Jersey Avenue SE, Room No. W38-302, Mail Stop 20, Washington, DC 20590. Applicants are advised to use means of rapid conveyance (such as courier service) as the application deadline approaches.

To apply for funding through Grants.gov, applicants must be properly registered. Complete instructions on how to register and submit an application are at Grants.gov. Registering with Grants.gov is a one-time process. However, it can take several weeks for first-time registrants to receive confirmation and a user password. FRA recommends that applicants start the registration process as early as possible to prevent delays that may preclude submitting an application package by the application deadline. FRA will not accept applications after the due date.

To apply for funding under this announcement and to apply for funding through Grants.gov, all applicants must:

1. Acquire a Data Universal Numbering System (DUNS) Number. A DUNS number is required for Grants.gov registration. The Office of Management and Budget (OMB) requires that all businesses and nonprofit applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and sub-recipients. The DUNS number will be used throughout the grant life cycle. Obtaining a DUNS number is a free, one-time activity. Applicants may obtain a DUNS number by calling 1-866-705-5711 or by applying online at http://www.dnb.com/us.

2. Acquire or Renew Registration with the System for Award Management (SAM) Database. All applicants for Federal financial assistance must maintain current registrations in the SAM database. An applicant must be registered in SAM to successfully register in Grants.gov. The SAM database is the repository for standard information about Federal financial assistance applicants, recipients, and sub recipients. Organizations that have previously submitted applications via Grants.gov are already registered with SAM, as it is a requirement for Grants.gov registration. Please note, however, that applicants must update or renew their SAM registration at least once per year to maintain an active status. Therefore, it is critical to check registration status well in advance of the application deadline. Information about SAM registration procedures is available at www.sam.gov.

3. Acquire an Authorized Organization Representative (AOR) and a Grants.gov Username and Password. Applicants must complete an AOR profile on Grants.gov and create a username and password. Applicants must use the organization's DUNS number to complete this step. Additional information about the registration process is available at www.grants.gov/applicants/get_registered.jsp.

4. Acquire Authorization for your AOR from the E-Business Point of Contact (E-Biz POC). The applicant's E-Biz POC must log in to Grants.gov to confirm a representative as an AOR. Please note that there can be more than one AOR at an organization.

5. Search for the Funding Opportunity on Grants.gov. The CFDA number for this opportunity is 20.301, titled “Rail Safety Grants.”

6. Submit an Application Addressing All of the Requirements Outlined in this Funding Availability Announcement. After submitting the application through Grants.gov, a confirmation screen will appear on the applicant's computer screen. This screen will confirm that the applicant has submitted an application and provide a tracking number to track the status of the submission. Within 24 to 48 hours after submitting an electronic application, an applicant should receive an email validation message from Grants.gov. The validation message will explain whether the application has been received and validated or rejected, with an explanation. Applicants are urged to submit an application at least 72 hours prior to the due date of the application to allow time to receive the validation message and to correct any problems that may have caused a rejection notification.

If an applicant experiences difficulties at any point during this process, please call the Grants.gov Customer Center Hotline at 1-800-518-4726, 24 hours a day, 7 days a week (closed on Federal holidays).

Note: Please use generally accepted formats such as .pdf, .doc, .docx, .xls, .xlsx and .ppt, when uploading attachments. While applicants may imbed picture files, such as .jpg, .gif, and .bmp, in document files, applicants should not submit attachments in these formats. Additionally, the following formats will not be accepted: .com, .bat, .exe, .vbs, .cfg, .dat, .db, .dbf, .dll, .ini, .log, .ora, .sys, and .zip.

Section 5: Application Review

5.1 Intake and Eligibility

Following the application deadline, FRA will screen all applications for timely submission and completeness. Applications that do not meet the requirements detailed in Section 4 of this notice will be ineligible for funding consideration.

5.2 Evaluation

FRA intends to award funds to projects that achieve the maximum benefits possible given the amount of funding available. FRA will analyze each application for its technical merit and project benefits using the factors and sub-criteria below.

(1) Technical Merit ²

² 49 U.S.C. 20167 requires that FRA consider whether the railroad carrier has submitted a railroad safety risk reduction program, as required by 49 U.S.C. 20156. However, because FRA has not promulgated a final rule requiring railroads to develop railroad safety risk reduction programs under section 20156, FRA cannot give weight to this factor.

○ The application is thorough and responsive to all of the requirements outlined in this Notice.

○ The tasks and subtasks outlined in the SOW are appropriate to achieve the expected safety outputs of the proposed project.

○ The proposed costs are realistic and are sufficient to accomplish the tasks documented in the SOW.

○ The appropriate partnerships and financing are in place to complete the proposed project.

(2) Project Benefits

○ The application contains supportable data to describe the safety risk that currently exists if the proposed project is not completed. This information should include the age and condition of the rail infrastructure to be replaced, improved, or rehabilitated.

○ The applicant describes the expected safety benefit of the project, making a reasonable link between that benefit and the proposed activities of the project. If applicable, this information should include the volume of hazardous materials transported over the infrastructure to be replaced, repaired or rehabilitated, and whether the infrastructure supports passenger rail operations.

○ The relative impact of the proposed safety improvement (i.e., does the safety benefit have a significant impact on a given community or rail line).

○ Other potential benefits, such as improved operational efficiencies, reduced maintenance costs, and potential increased ridership.

○ The safety record of the railroad carrier that owns the infrastructure, including accident and incident numbers and rates.

○ Information provided by the applicant that demonstrates the merit of investing in the proposed project using a benefit cost analysis that is systematic, data driven, and examines the trade-offs between project costs and expected safety benefit. Applicants should note if other, alternative investments were considered for submission under this notice using a similar benefit-cost analysis approach. Applicants are strongly encouraged to use Executive Order 12839 (Principles for Federal Infrastructure Investments, 59 FR 4233), OMB Circular A-94 (Guidelines and Discount Rates for Benefit-Cost Analysis of Federal Programs), and OMB Circular A-4 (Regulatory Analysis) to conduct this analysis.

5.3 Selection

In addition to the evaluation criteria outlined in Section 5.2 above, the FRA Administrator may apply any or all of the following selection criteria to further ensure the projects selected for funding advance FRA and DOT's current mission and key priorities, as well as to ensure the projects selected are appropriate to meet national transportation safety and rail network objectives.

(1) Alignment with DOT Strategic Goals and Priorities:

○ Improving transportation safety;

○ Maintaining infrastructure in a state of good repair;

○ Promoting economic competitiveness;

○ Advancing environmentally sustainable transportation policies;

○ Furthering the six “Livability Principles” DOT developed with the Department of Housing and Urban Development and the Environmental Protection Agency as part of the Partnership for Sustainable Communities;

○ Enhancing quality of life; and

○ Building ladders of opportunity to expand the middle class.

(2) Project Delivery Performance:

○ The applicant's track record in successfully delivering previous FRA and DOT grants on time, on budget, and for the full intended scope; and

○ The extent to which the proposed project complements previous FRA or DOT awards.

(3) Region/Location:

○ The extent to which the proposed project increases the economic productivity of land, capital, or labor at specific locations, particularly in economically distressed areas;

○ Ensuring an appropriate level of regional balance across the country; and

○ Ensuring consistency with national transportation and rail network objectives.

(4) Innovation/Resource Development:

○ Pursuing new rail technologies that result in a favorable public return on investment and that ensure delivery of project benefits;

○ Promoting innovations that demonstrate the value of new approaches to safety management, as well as contracting and project delivery; and

○ Promoting domestic manufacturing, supply, and industrial development.

(5) Partnerships:

○ For projects that span multiple jurisdictions (States or local governments), emphasizing those that have organized multi-jurisdictional partnerships with joint planning and prioritization of investments;

○ Strengthening human capital and workforce opportunities, particularly for low-income workers or for people in economically distressed areas;

○ Employing creative approaches to ensure workforce diversity and use of disadvantaged and minority business enterprises, including opportunities for small businesses and disadvantaged business enterprises, including veteran-owned small businesses and service-disabled veteran-owned small businesses; and

○ Engaging local communities and other stakeholder groups in the project in a way that offers an opportunity for meaningful engagement in the process.

(6) Project Readiness:

○ Applicant progress, if any, in reaching compliance with NEPA for the proposed project. It should be noted that NEPA-related work, or a NEPA decision (e.g., a Record of Decision, Finding of No Significant Impact, Categorical Exclusion determination) is not required to apply for funding under this notice;

○ The extent to which a proposed project is consistent with an adopted State-wide transportation or rail plan;

○ The level of detail provided in the submitted SOW, including whether there is enough information to immediately advance the proposed project to award;

○ The level and degree to which the proposed project is dependent on other non-FRA financial contributions and the extent to which these contributions are secure; and

○ Whether there are engineering materials developed and submitted to FRA or materials partially developed that may be available to FRA in the near future to assess the proposed project's design and constructability risks.

(7) Other Potential Funding:

○ Whether the applicant has submitted an application for funding under any other rail or transportation infrastructure grant or loan program, such as

1. DOT's TIGER grant program;

2. DOT's FASTLANE grant program;

3. FRA's Railroad Rehabilitation and Improvement Financing loan program; and

4. The Federal Highway Administration's Transportation Infrastructure Finance and Innovation Act loan program.

5.4 Federal Awardee Performance and Integrity Information System (FAPIIS) Review

FRA, prior to making a Federal award with a total amount of Federal share greater than the simplified acquisition threshold (see 2 CFR 200.88, Simplified Acquisition Threshold), will review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FRA will consider any comments by the applicant, in addition to the other information in the designated integrity and performance system, in making a judgment about the applicant's integrity, business ethics, and record of performance under Federal awards when completing the review of risk posed by applicants as described in 2 CFR 200.205 (Federal Awarding Agency Review of Risk Posed by Applicants).

Section 6: Administration of Federal Grant Awards

FRA will announce applications selected for funding after the application review period. FRA will contact applicants with successful applications after the announcement with information and instructions about the award process. Notification of a selected application is not an authorization to begin proposed project activities. A formal Notice of Grant Agreement signed by both the grantee and the FRA and containing an approved scope, schedule, and budget, is required before the award is considered complete.

The period of performance for grants awarded under this notice is dependent upon the project and will be determined on a grant-by-grant basis. FRA will only consider written requests to FRA to extend the period of performance with specific and compelling justifications for why an extension is required. Any obligated funding not spent by the grantee and reimbursed by the FRA upon completion of the grant will be de-obligated.

FRA will make awards for projects selected under this notice through cooperative agreements. Cooperative agreements allow for substantial Federal involvement in carrying out the agreed upon investment, including technical assistance, review of interim work products, and increased program oversight under 2 CFR part 200, appendix I. The funding provided under these cooperative agreements will be made available to grantees on a reimbursable basis. Applicants must certify that their expenditures are allowable, allocable, reasonable, and necessary to the approved project before seeking reimbursement from FRA. Additionally, the grantee must expend matching funds at the required percentage alongside Federal funds throughout the life of the project.

6.1 Administrative and National Policy Requirements

Grantees and entities receiving funding from the grantee (sub-recipients and contractors), must comply with all applicable laws and regulations. A non-exclusive list of administrative and national policy requirements that grantees must follow includes: 2 CFR part 200; procurement standards; compliance with Federal civil rights laws and regulations; disadvantaged business enterprises; debarment and suspension; drug-free workplace; FRA's and OMB's Assurances and Certifications; Americans with Disabilities Act; and labor standards, safety oversight, environmental protection, NEPA, environmental justice, and Buy American (41 U.S.C. 8302) provisions.

6.2 General Requirements

The applicant will be required to comply with all standard FRA reporting requirements, including quarterly progress reports, quarterly Federal financial reports, and interim and final performance reports, as well as all applicable auditing, monitoring and close out requirements. Reports may be submitted electronically.

The applicant must comply with all relevant requirements of 2 CFR 180.335 and 180.350.

Section 7: Federal Awarding Agency Contact

For further information regarding this Notice and the Railroad Safety Infrastructure Improvement Grant program, please contact John Winkle, attn.: Mary Ann McNamara, Office of Program Delivery, Federal Railroad Administration, 1200 New Jersey Avenue SE., Room No. W38-302, Mail Stop 20, Washington, DC 20590; Email: john.winkle@dot.gov; Phone: (202) 493-6067; Fax: (202) 493-6333.

Authority: Consolidated Appropriations Act, 2016, Pub. L. 114-113, division L, title I (2015).

Issued in Washington, DC, on April 26, 2016.
Jamie Rennert,
Director, Program Delivery.

[FR Doc. 2016-10077 Filed 4-28-16; 8:45 am]

BILLING CODE 4910-06-P